DEPARTMENT OF LABOR

Employment and Training Administration

[TA-W-39,440]

Triple-O, Inc., Roseburg, Oregon; Notice of Termination of Investigation

Pursuant to Section 221 of the Trade Act of 1974, an investigation was initiated on June 18, 2001 in response to a petition filed by a company official on behalf of workers at Triple-O, Inc., Roseburg, Oregon.

This case is being terminated at the petitioner's request. Consequently, further investigation in this case would serve no purpose, and the investigation has been terminated.

Signed at Washington, DC, this 9th day of October 2001.
Linda G. Poole,
Certifying Officer, Division of Trade Adjustment Assistance.

[FR Doc. 01-26354 Filed 10-18-01; 8:45 am]

BILLING CODE 4510-30-M